DEPARTMENT OF THE INTERIOR

National Park Service

[NPS-WASO-NAGPRA-NPS0038019; PPWOCRADN0-PCU00RP14.R50000]

Notice of Inventory Completion: University of New Hampshire, Durham, NH

AGENCY: National Park Service, Interior.

ACTION: Notice.

SUMMARY: In accordance with the Native American Graves Protection and Repatriation Act (NAGPRA), the University of New Hampshire (UNH) has completed an inventory of human remains and has determined that there is a cultural affiliation between the human remains and Indian Tribes or Native Hawaiian organizations in this notice.

DATES: Repatriation of the human remains in this notice may occur on or after July 3, 2024.

ADDRESSES: Dr. Michele Dillon, University of New Hampshire, COLA Dean's Office, Murkland Hall Rm 110, Durham, NH 03824, telephone (603) 862-2062, email Michele.Dillon@unh.edu.

SUPPLEMENTARY INFORMATION: This notice is published as part of the National Park Service's administrative responsibilities under NAGPRA. The determinations in this notice are the sole responsibility of the University of New Hampshire, and additional information on the determinations in this notice, including the results of consultation, can be found in the inventory or related records. The National Park Service is not responsible for the determinations in this notice.

Abstract of Information Available

Based on the information available, human remains representing, at least, four individuals have been reasonably identified. On an unknown date, the human remains were acquired by Laurence Crosbie (Crosby), a teacher at Phillips Exeter Academy (PEA), which is located in Exeter, New Hampshire. Sometime in the 1980s, the individuals were received by the University of New Hampshire (UNH) from Phillips Exeter Academy. Crosbie frequently collected in the New England area and was active in the New Hampshire Archaeological Society (which he co-founded), the Massachusetts Archaeological Society, and the Connecticut Archaeological Society. Based on the available information, the individuals were likely removed from the coastal New England region. UNH has no knowledge or record of any potentially hazardous substances being used to treat the human remains.

Cultural Affiliation

Based on the information available and the results of consultation, cultural affiliation is reasonably identified by the geographical location or acquisition history of the human remains in this notice.

Determinations

The University of New Hampshire has determined that:

• The human remains described in this notice represent the physical remains of four individuals of Native American ancestry.

• There is a reasonable connection between the human remains described in this notice and the Delaware Nation, Oklahoma; Delaware Tribe of Indians; Mashantucket Pequot Indian Tribe; Mashpee Wampanoag Tribe; Mi'kmaq Nation (previously listed as Aroostook Band of Micmacs); Mohegan Tribe of Indians of Connecticut; Narragansett Indian Tribe; Passamaquoddy Tribe; Penobscot Nation; Shinnecock Indian Nation; and the Wampanoag Tribe of Gay Head (Aquinnah).

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after July 3, 2024. If competing requests for repatriation are received, the University of New Hampshire must determine the most appropriate requestor prior to repatriation. Requests for joint repatriation of the human remains are considered a single request and not competing requests. The University of New Hampshire is responsible for sending a copy of this notice to the Indian Tribes and Native Hawaiian organizations identified in this notice.

Authority: Native American Graves Protection and Repatriation Act, 25 U.S.C. 3003, and the implementing regulations, 43 CFR 10.10.

Dated: May 22, 2024.
Melanie O'Brien,
Manager, National NAGPRA Program.

[FR Doc. 2024-12078 Filed 5-31-24; 8:45 am]

BILLING CODE 4312-52-P